DEPARTMENT OF TRANSPORTATION

Federal Aviation Administration

14 CFR Part 71

[Docket FAA 2003-15996; Airspace Docket 03-ANM-04]

Modification of Class E Airspace; Trinidad, CO

AGENCY: Federal Aviation Administration (FAA), DOT.

ACTION: Final rule.

SUMMARY: This final rule will modify Class E airspace at Trinidad, CO. New Area Navigation (RNAV) Global Position System (GPS) Standard Instrument Approach Procedures (SIAPs) have been developed at Perry Stokes Airport, Trinidad, CO, making it necessary to increase the area of controlled airspace. This additional controlled airspace extending upward from 700 feet or more above the surface of the earth is necessary to contain Instrument Flight Rules (IFR) aircraft executing these new SIAPs.

DATES: Effective Date: 0901 UTC, September 2, 2004.

FOR FURTHER INFORMATION CONTACT: Ed Haeseker, Air Traffic Division, Federal Aviation Administration, 1601 Lind Avenue, SW., Renton, Washington 98055-4056; telephone (425) 227-2527.

SUPPLEMENTARY INFORMATION:

History

On November 6, 2003, the FAA proposed to amend Federal Aviation Regulations 14 CFR part 71 to modify Class E airspace at Trinidad, CO (68 FR 62761-62762). The proposal was to modify controlled airspace extending upward from 700 feet or more above the surface of the earth to contain IFR operations within controlled airspace during the terminal phase and when transitioning to/from the en route environments.

Interested parties were invited to participate in this rule making proceeding by submitting written comments on the proposal to the FAA. No comments were received. Class E airspace areas extending upward from 700 feet or more above the surface of the earth are published in paragraph 6005 of FAA Order 7400.9L dated September 2, 2003, and effective September 16, 2003, which is incorporated by reference in 14 CFR 71.1. The Class E airspace designations listed in this document will be published subsequently in that Order.

The Rule

This amendment to 14 CFR part 71 will modify Class E airspace at Trinidad, CO, to accommodate aircraft executing newly developed IFR RNAV SIAPs at Perry Stokes Airport. The new RNAV SIAPs make it necessary to increase the area of controlled airspace. Additional controlled airspace extending upward from 700 feet or more above the surface of the earth will be established to contain IFR aircraft executing these new SIAPs.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034, February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

Accordingly, pursuant to the authority delegated to me, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9L, Airspace Designations and Reporting Points, dated September 02, 2003, and effective September 16, 2003, is amended as follows:

Paragraph 6005 Class E airspace areas extending upward from 700 feet or more above the surface of the earth.

* * * * *

ANM CO E5 Trinidad, CO [Revised]

Perry Stokes Airport, Trinidad, CO

(Lat. 37°15′34″ N., long. 104°20′26″ W.)

Trinidad Non Directional Beacon (NDB)

(Lat. 37°18′22″ N., long. 104°20′00″ W.)

That airspace extending upward from 700 feet above the surface of the earth within a 8.0 mile radius of the Perry Stokes Airport and within 4.0 miles each side of the 355° bearing from the Trinidad NDB extending from the 8.0 mile radius to 11 miles north of the NDB and 4.0 miles each side of the 225° bearing from the Trinidad Airport extending from the 8.0 mile radius to 13 miles southwest of the airport; that airspace extending upward from 1,200 feet above the surface of the earth bounded by a line beginning at lat. 37°47′00″ N., long 104°00′00″ W. thence south along long. 104°00′00″ W. thence southwest along V263-378, thence north along V83-611 until lat. 37°47′00″ N., thence east along lat. 37°47′00″ N. until the point of origin; excluding that airspace within Federal airways.

* * * * *

Issued in Seattle, Washington, on June 8, 2004.
John Warner,
Acting Manager, Air Traffic Division, Northwest Mountain Region.

[FR Doc. 04-13828 Filed 6-17-04; 8:45 am]

BILLING CODE 4910-13-M